ENVIRONMENTAL PROTECTION AGENCY

[FRL-7235-4]

Proposed CERCLA Prospective Purchaser Agreement; Leggett & Platt Inc.; City of Sterling, Whiteside County, IL

AGENCY: Environmental Protection Agency (EPA).

ACTION: Notice; request for public comment.

SUMMARY: In accordance with the Comprehensive Environmental Response, Compensation, and Liability Act, as amended (“CERCLA”), 42 U.S.C. 9601 et seq., and the authority of the Attorney General of the United States to compromise and settle claims of the United States as delegated, notice is hereby given of a proposed prospective purchaser agreement concerning portions of the former Northwestern Steel site at 121 Wallace Street, Sterling, Whiteside County, Illinois 61520 with Leggett & Platt, Inc. (L&P) and Sterling Steel Company, LLC (Sterling). The agreement is contingent on and requires L&P and Sterling to perform numerous items of remediation that will be specifically set forth in the work plan currently being developed. The work will be performed for the areas of the site that L&P is purchasing—Plants 2 and 3. The work must meet the requirements of the State of Illinois Site Remediation Program. The agreement includes a covenant not to sue the L&P under sections 106 and 107(a) of CERCLA, 42 U.S.C. 9606 and 9607(a) and sections 3008(h) and 7003 of RCRA. The agreement also includes contribution protection for L&P under section 113(f)(2), 42 U.S.C. 9613(f)(2), and removal of any liens under section 107(l) of CERCLA, 42 U.S.C. 9607(l). For thirty (30) days following the date of publication of this notice, the United States will receive written comments relating to the agreement. The United States will consider all comments received and may modify or withdraw its consent to the agreement if comments received disclose facts or considerations which indicate that the agreement is inappropriate, improper, or inadequate. The United States' response to any comments received will be available for public inspection at U.S. EPA, Region 5, 77 W. Jackson Boulevard, Chicago, IL 60604. Please contact Thor W. Ketzback at (312) 886-7949 to make arrangements to inspect the comments.

DATES: Comments must be submitted on or before July 22, 2002.

ADDRESSES: The proposed settlement is available for public inspection at U.S. EPA, Region 5, 77 W. Jackson Boulevard, Chicago, IL 60604. A copy of the proposed agreement may be obtained from Thor W. Ketzback, at U.S. EPA, Region 5, 77 W. Jackson Boulevard (C-14J), Chicago, IL 60604, phone (312) 353-6720. Comments should reference the L&P prospective purchaser agreement, and should be addressed to Thor W. Ketzback.

FOR FURTHER INFORMATION CONTACT: Thor W. Ketzback, at U.S. EPA, Region 5, 77 W. Jackson Boulevard (C-14J), Chicago, IL 60604, phone (312) 353-6720.

Dated: May 23, 2002.
William E. Muno,
Director, Superfund Division, Region 5.

[FR Doc. 02-15615 Filed 6-19-02; 8:45 am]

BILLING CODE 6560-50-P